NUCLEAR REGULATORY COMMISSION

10 CFR Part 73

RIN 3150-AI64

[NRC-2009-0163]

Physical Protection of Irradiated Reactor Fuel in Transit

AGENCY: Nuclear Regulatory Commission.

ACTION: Orders; rescission.

SUMMARY: The U.S. Nuclear Regulatory Commission (NRC) is rescinding EA-02-109, “Issuance of Order for Interim Safeguards and Security Compensatory Measures for the Transportation of Spent Nuclear Fuel [SNF] Greater than 100 Grams,” dated October 10, 2002, and subsequent similar security orders issued to licensees shipping SNF during the period of October 2003 through December 2010. These orders are collectively referred to as the “SNF Transportation Orders.” The SNF Transportation Orders are being rescinded because the NRC published a final rule, “Physical Protection of Irradiated Fuel in Transit,” on May 20, 2013, amending its regulations to incorporate the security requirements in the SNF Transportation Orders and lessons learned from implementation of the SNF Transportation Orders.

DATES: Effective August 19, 2013, the NRC hereby rescinds EA-02-109, dated October 10, 2002, and subsequent similar security orders issued to licensees shipping SNF during the period of October 2003 through December 2010.

ADDRESSES: Please refer to Docket ID NRC-2009-0163 when contacting the NRC about the availability of information for this action. You may access publically-available information related to this action by the following methods:

• Federal Rulemaking Web site: Go to http://www.regulations.gov and search for Docket ID NRC-2009-0163. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jessica Umaña, Office of Nuclear Material Safety and Safeguards, U.S. Nuclear Regulatory Commission, Washington DC 20555-0001; telephone: 301-287-9226, email: Jessica.Umana@nrc.gov.

SUPPLEMENTARY INFORMATION: The NRC issued the SNF Transportation Orders to certain NRC power plant licensees, non-power reactor licensees, special nuclear material licensees, and independent spent fuel storage installation licensees, who shipped, received, or planned to ship or receive SNF under the provisions of Part 71 of Title 10 of the Code of Federal Regulations (10 CFR). The Commission issued the SNF Transportation Orders during the period from October 2002, through December 2010. The SNF Transportation Orders were issued as immediately effective under the NRC's authority to protect the common defense and security pursuant to the provisions of the Atomic Energy Act, and the Commission's regulations in 10 CFR 2.202 and 10 CFR Parts 50, 70, 71, and 72. The requirements established by the SNF Transportation Orders supplemented the existing regulatory requirements for the shipment of SNF at the time. These additional security requirements were primarily intended to ensure that SNF was shipped in a manner that protects the common defense and security, and the public health and safety.

On May 20, 2013 (78 FR 29520), the NRC published the final rule for 10 CFR 73.37, “Physical Protection of Irradiated Reactor Fuel in Transit” (RIN 3150-AI64; NRC-2009-0163). The final rule incorporates the security requirements in the SNF Transportation Orders as well as lessons learned from the implementation of the SNF Transportation Orders. The final rule becomes effective on August 19, 2013, and establishes the acceptable performance standards and objectives for the protection of SNF shipments greater than 100 grams from theft, diversion, or radiological sabotage. The requirements in the final rule capture and make generically applicable the security requirements in the SNF Transportation Orders.

Dated at Rockville, Maryland, this 12th day of August, 2013.
For the Nuclear Regulatory Commission.
Eric J. Leeds,
Director, Office of Nuclear Reactor Regulation.
Catherine Haney,
Director, Office of Nuclear Material Safety and Safeguards.

[FR Doc. 2013-19978 Filed 8-16-13; 8:45 am]

BILLING CODE 7590-01-P